DEPARTMENT OF LABOR

Employment and Training Administration

[TA-W-71,805, TA-W-71,805A]

Autosplice, Inc. Including On-Site Leased Workers From Select Temporary Services and Payrolling.Com, San Diego, CA; Including an Employee in Support of Autosplice, Inc. San Diego, CA, Working Out of Farmingdale, NY; Amended Certification Regarding Eligibility To Apply for Worker Adjustment Assistance

In accordance with Section 223 of the Trade Act of 1974, as amended (“Act”), 19 U.S.C. 2273, the Department of Labor issued a Certification of Eligibility to Apply for Worker Adjustment Assistance on October 28, 2009, applicable to workers of Autosplice, Inc., including on-site leased workers from Select Temporary Services and Payrolling.com. The notice was published in the Federal Register December 11, 2009 (74 FR 65795).

At the request of a State Agency, the Department reviewed the certification for workers of the subject firm. The workers are engaged in the production of electrical connectors used in medical, transportation, automotive, consumer goods, telecommunication and industrial applications.

New information shows that a worker separation has occurred involving an employee in support of the San Diego, California location of Autosplice, Inc., working out of Farmingdale, New York. Ms. Pamela J. Sokol provided sales and marketing functions supporting the San Diego, California production facility of the subject firm.

Based on these findings, the Department is amending this certification to include an employee in support of the San Diego, California facility working out of Farmingdale, New York.

The intent of the Department's certification is to include all workers of the subject firm who were adversely affected by a shift in production of electrical connectors used in for medical, transportation, automotive, consumer goods, telecommunication and industrial applications to Mexico.

The amended notice applicable to TA-W-71,805 is hereby issued as follows:

“All workers of Autosplice, Inc., including on-site leased workers from Select Temporary Services and Payrolling.com, and including an employee in support of Autosplice, Inc., San Diego, California working off site in Farmingdale, New York (TA-W-71,805A), who became totally or partially separated from employment on or after July 23, 2008 through October 28, 2011, and all workers in the group threatened with total or partial separation from employment on date of certification through two years from the date of certification, are eligible to apply for adjustment assistance under Chapter 2 of Title II of the Trade Act of 1974, as amended.”

Signed in Washington, DC, this 18th day of May 2010.
Michael W. Jaffe,
Certifying Officer, Division of Trade Adjustment Assistance.

[FR Doc. 2010-12896 Filed 5-27-10; 8:45 am]

BILLING CODE 4510-FN-P